ARCHITECTURAL AND TRANSPORTATION BARRIERS COMPLIANCE BOARD

Access Board Meeting

AGENCY: Architectural and Transportation Barriers Compliance Board.

ACTION: Notice of meeting.

SUMMARY: The Architectural and Transportation Barriers Compliance Board (Access Board) has scheduled its regular business meetings to take place in Washington, DC, from Tuesday through Thursday, July 8-10, 2003, at the times and location noted below.

DATES: The schedule of events is as follows:

Tuesday, July 8, 2003

9-11 a.m. Informal Meeting

11-Noon Planning and Budget Committee

1:30-4:30 p.m. Outreach Ad Hoc Committee

Wednesday, July 9, 2003

9-10:30 a.m. Technical Programs Committee

10:30-Noon Executive Committee

1:30-3 p.m. Board Meeting (Parts closed)

3-4 p.m. Briefing on Outdoor Developed Areas

4-5 p.m. Briefing on Section 508 Requirements

Thursday, July 10, 2003

9-10:30 a.m. Passenger Vessels Ad Hoc Committee (Closed)

ADDRESSES: The meetings will be held at the Marriott at Metro Center, 775 12th St., NW, Washington, DC.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the March 12, 2003 Board Meeting Minutes

• Planning and Budget Committee Report

• Executive Committee Report

• Technical Programs Committee Report

• Ad Hoc Committee on Outreach Report

Closed Meeting

• Outdoor Developed Areas Rulemaking and Policy Issues

• Scoping Requirements for Housing

• ADA and ABA Accessibility Guidelines Regulatory Assessment

• Passenger Vessels Accessibility Guidelines

All meetings are accessible to persons with disabilities. Sign language interpreters and an assistive listening system are available at all meetings. Persons attending Board meetings are requested to refrain from using perfume, cologne, and other fragrances for the comfort of other participants.

Lawrence W. Roffee,
Executive Director.

[FR Doc. 03-16474 Filed 6-27-03; 8:45 am]

BILLING CODE 8150-01-P